FEDERAL DEPOSIT INSURANCE CORPORATION

12 CFR Parts 338 and 352

RIN 3064-AD31

Fair Housing and Nondiscrimination on the Basis of Disability

AGENCY: Federal Deposit Insurance Corporation (FDIC).

ACTION: Final rule.

SUMMARY: The FDIC is amending two regulations, following a recent review, to update FDIC addresses contained in the regulations. First, the FDIC is updating the division name and address information in the Equal Housing Lender poster set forth in its fair housing regulation. Second, the FDIC is updating the address and telephone contact information for the FDIC's Office of Diversity and Economic Opportunity (ODEO) set forth in its regulation on nondiscrimination on the basis of disability.

DATES: Effective August 7, 2008.

FOR FURTHER INFORMATION CONTACT: Michael R. Evans, Fair Lending Specialist, Compliance Policy Section, Division of Supervision and Consumer Protection, (202) 898-6611; or Donna Nordenberg, Counsel, Legal Division, (202) 898-6595, for the revision to 12 CFR part 338. Earl F. McJett, Information Management Analyst, Office of Diversity and Economic Opportunity, (703) 562-6098; or Michelle Kosse, Counsel, Legal Division, (202) 898-3792, for the revision to 12 CFR part 352.

SUPPLEMENTARY INFORMATION:

I. Background

Following a recent review of certain regulations, the FDIC is amending contact information for FDIC offices contained in two regulations, parts 338 and 352.

Part 338 of the FDIC's Rules and Regulations is the FDIC's Fair Housing Act (FHA) regulation (12 CFR part 338). Section 338.4 requires insured state nonmember banks that engage in extending any loan for the purpose of purchasing, constructing, improving, repairing, or maintaining a dwelling or any loan secured by a dwelling to conspicuously display either the Equal Housing Lender poster set forth in section 338.4(b) or the Equal Housing Opportunity poster prescribed by part 110 of the regulations of the United States Department of Housing and Urban Development (24 CFR part 110). The Equal Housing Lender poster set forth in part 338 contains an FDIC address for filing complaints of discrimination under the FHA and the Equal Credit Opportunity Act regarding insured state nonmember banks. The FDIC previously centralized the processing of consumer complaints in the FDIC Consumer Response Center (CRC) located in Kansas City, Missouri, and is updating the poster prescribed in part 338 to reflect the name and address of the CRC. The FDIC has updated the Equal Housing Lender posters made available to insured state nonmember banks to reflect the address of the CRC.

Part 352 is the FDIC's regulation on nondiscrimination on the basis of disability (12 CFR part 352). Part 352 is intended to implement sections 504 and 508 of the Rehabilitation Act of 1973, as amended. Section 504 prohibits discrimination on the basis of disability in programs and activities conducted by a federal executive agency. Section 508 requires federal agencies to utilize electronic and information technology that is designed to allow individuals with disabilities access that is comparable to the access of those who are not disabled, unless the agency would incur an undue burden. Subsections 352.9(b) and 352.10(c) set forth contact information for the ODEO that is no longer accurate, as ODEO has moved to 3501 Fairfax Drive, Arlington, VA 22226. The current FDIC telephone number is (877) 275-3342 or (703) 562-2473 (TTY).

II. Final Rule

The final rule for part 338 revises the Equal Housing Lender poster in § 338.4 to reflect the name and address of the CRC in Kansas City, Missouri and replace the former name of an FDIC division. The final rule for part 352 revises the FDIC contact information in §§ 352.9(b) and 352.10(c) to reflect the current address and telephone number of the ODEO.

The amendments are procedural in nature and would update the regulations to be consistent with the FDIC's practices and procedures. In order to provide a transition period for compliance with the amendment to part 338 only, the FDIC will require insured state nonmember banks that display an Equal Housing Lender poster to display a poster reflecting the name and address of the CRC one year from publication of this final rule in the Federal Register.

III. Exemption From Public Notice and Comment

Section 553 of the Administrative Procedure Act (APA) (5 U.S.C. 553) sets forth requirements for providing the general public notice of, and the opportunity to comment on, proposed agency rules. However, unless notice or hearing is required by statute, those requirements do not apply:

(A) To interpretative rules, general statements of policy, or rules of agency organization, procedure, or practice; or

(B) when the agency for good cause finds (and incorporates the finding and a brief statement of reasons therefor in the rules issued) that notice and public procedure thereon are impracticable, unnecessary, or contrary to the public interest. 5 U.S.C. 553(b).

The FDIC is amending parts 338 and 352 to make procedural changes to FDIC address and contact information consistent with current agency practice and procedures. Further, the amendment to part 338 will make the Equal Housing Lender poster consistent with the poster made available by the FDIC to insured state nonmember banks. Since these changes relate to agency organization, procedure, or practice, and because the FDIC has determined for good cause that public notice and comment are unnecessary, the rules are being published in final form without public notice and comment.

IV. Effective Dates

Section 553 of the APA provides that a regulation shall not be made effective less than 30 days after its publication in the Federal Register except, among other things, upon a finding of “good cause” by the agency. (5 U.S.C. 553(d).) The FDIC finds that there is good cause to make the amendments to parts 338 and 352 effective immediately upon publication in the Federal Register because the revisions to the FDIC contact information, address and telephone number in the regulations are procedural and non-substantive.

V. Regulatory Flexibility Act

The Regulatory Flexibility Act (RFA) (5 U.S.C. 601-612) does not apply to a rulemaking where a general notice of proposed rulemaking is not required. (5 U.S.C. 603 and 604.) As noted previously, the FDIC has determined that it is unnecessary to publish a notice of proposed rulemaking for the final rule amending parts 338 and 352. Accordingly, the RFA's requirements relating to an initial and final regulatory flexibility analysis do not apply to this rulemaking for parts 338 or 352.

VI. Paperwork Reduction Act of 1995

The final rule for parts 338 or 352 does not contain any requirements for the collection of information pursuant to the Paperwork Reduction Act (44 U.S.C. 3501 et seq.).

VII. The Treasury and General Government Appropriations Act, 1999—Assessment of Federal Regulations and Policies on Families

The FDIC has determined that the final rule for parts 338 or 352 will not affect family well-being within the meaning of section 654 of the Treasury and General Government Appropriations Act, 1999, enacted as part of the Omnibus Consolidated and Emergency Supplemental Appropriations Act, 1999 (Pub. L. 105-277, 112 Stat. 2681).

VIII. Small Business Regulatory Enforcement Fairness Act

The Office of Management and Budget has determined that the final rule for parts 338 or 352 is not a “major rule” within the meaning of the relevant sections of the Small Business Regulatory Enforcement Fairness Act of 1996 (SBREFA) (Title II, Pub. L. 104-121). As required by SBREFA, the FDIC will file the appropriate reports with Congress and the Government Accountability Office so that the final rule for parts 338 or 352 may be reviewed.

List of Subjects

12 CFR Part 338

Advertising, Banks, Banking, Civil rights, Credit, Fair housing, Mortgages, Reporting and recordkeeping requirements, Signs and symbols.

12 CFR Part 352

Nondiscrimination on the basis of disability, Accessibility to electronic and information technology, Employment, Communications.

Authority and Issuance

For the reasons set forth in the preamble, parts 338 and 352 of Chapter III of the title 12 of the Code of Federal Regulations are amended as follows:

PART 338—FAIR HOUSING

1. The authority citation for part 338 continues to read as follows:

Authority: 12 U.S.C. 1817, 1818, 1819, 1820(b), 2801 et seq.; 15 U.S.C. 1691 et seq.; 42 U.S.C. 3605, 3608; 12 CFR parts 202, 203; 24 CFR part 110.

Subpart A—Advertising

2. Section 338.4(b) is amended by revising the Equal Housing Lender Poster set forth in this paragraph to read as follows:

§ 338.4 Fair housing poster.

* * * * *

(b) * * *

BILLING CODE 6714-01-P

BILLING CODE 6714-01-P

* * * * *

PART 352—NONDISCRIMINATION ON THE BASIS OF DISABILITY

3. The authority citation for part 352 continues to read as follows:

Authority: 12 U.S.C. 1819(a); 29 U.S.C. 794d.

4. The second and third sentences of § 352.9(b) are revised to read as follows:

§ 352.9 Communications.

* * * * *

(b) * * * Interested persons may obtain such information by calling, writing or visiting the FDIC Office of Diversity and Economic Opportunity (ODEO), located at 3501 Fairfax Drive, Arlington, VA 22226. The FDIC telephone number is (877) 275-3342 or (703) 562-2473 (TTY).

* * * * *

5. The last sentence of § 352.10(c) is revised to read as follows:

§ 352.10 Compliance procedures.

* * * * *

(c) * * * All complaints should be sent to the FDIC's Office of Diversity and Economic Opportunity, 3501 Fairfax Drive, Arlington, VA 22226.

* * * * *

Dated this 31st day of July, 2008.
Federal Deposit Insurance Corporation.
Robert E. Feldman,
Executive Secretary.

[FR Doc. E8-18052 Filed 8-6-08; 8:45 am]

BILLING CODE 6714-01-P